SOCIAL SECURITY ADMINISTRATION

[Docket No. SSA-2024-0015]

Privacy Act of 1974; System of Records

AGENCY: Social Security Administration (SSA).

ACTION: Notice of a modified system of records.

SUMMARY: In accordance with the Privacy Act of 1974, we are issuing public notice of our intent to modify an existing system of records entitled, Freedom of Information Act (FOIA) and Privacy Act Record Request and Appeal System (60-0340), last published on July 13, 2016. This notice publishes details of the modified system as set forth below under the caption, SUPPLEMENTARY INFORMATION.

DATES: The system of records notice (SORN) is applicable upon its publication in today's Federal Register, with the exception of the new routine uses, which are effective December 18, 2025.

We invite public comment on the routine uses or other aspects of this SORN. In accordance with the Privacy Act of 1974, we are providing the public a 30-day period in which to submit comments. Therefore, please submit any comments by December 18, 2025.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at https://www.regulations.gov. Please reference docket number SSA-2024-0015. All comments we receive will be available for public inspection at the above address and we will post them to https://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: OGC.OPD.SORN@ssa.gov.

SUPPLEMENTARY INFORMATION: We are clarifying the system location to recognize that we may also maintain records in a cloud-based environment. We are updating the authorities for the maintenance of the system to remove references to SSA regulations. We are clarifying the purpose of the system for easier reading. We are revising routine use Nos. 2, 3, 4, and 9 for easier reading. We are adding a new routine use that will permit disclosures to third parties, when an individual involved with a request needs assistance to communicate because of a hearing impairment or a language barrier (e.g., to interpreters, telecommunications relay system operators).

In addition, we are modifying the policies and practices for the storage of records to clarify that SSA will maintain electronic records only. We are updating the records retention and disposal schedules. We are modifying the administrative, technical, and physical safeguards for easier reading. We are modifying the record access procedures to remove references to telephone, for consistency with agency access procedures.

Lastly, we are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Freedom of Information Act (FOIA) and Privacy Act Record Request and Appeal System, 60-0340.

SECURITY CLASSIFICATION:

Unclassified.

SYSTEM LOCATION:

Social Security Administration, Office of Law and Policy, Office of the General Counsel, Office of Privacy and Disclosure, 6401 Security Boulevard, Baltimore, Maryland 21235-6401.

Social Security Administration, Office of Operations, Office of Central Operations, Division of Earnings and Business Services, 6100 Wabash Avenue, Baltimore, Maryland 21290-3022.

Regional offices in receipt of original request (See Appendix C at https://www.ssa.gov/privacy/sorn/app_c.htm for address information).

Information is also located in additional locations in connection with cloud-based services for business continuity purposes.

SYSTEM MANAGER(S):

Social Security Administration, Freedom of Information Officer, Office of Law and Policy, Office of the General Counsel, Office of Privacy and Disclosure, 6401 Security Boulevard, Baltimore, MD 21235-6401, (410) 966-5855.

AUTHORITY FOR MAINTENANCE OF THE SYSTEM:

Section 1106 of the Social Security Act, as amended (42 U.S.C. 1306); Freedom of Information Act, as amended (5 U.S.C. 552); Privacy Act of 1974, as amended (5 U.S.C. 552a); and Records Management by Federal Agencies, as amended (44 U.S.C. 3101).

PURPOSE(S) OF THE SYSTEM:

We will use the information in this system to process requests and administrative appeals under the FOIA and the Privacy Act; support agency participation in litigation arising from requests and appeals; assign, process, and track workloads; and provide management information reports.

CATEGORIES OF INDIVIDUALS COVERED BY THE SYSTEM:

This system maintains information about individuals who submit FOIA or Privacy Act requests, including but not limited to Privacy Act access requests, amendments, and administrative appeals to SSA; FOIA requests and appeals; individuals whose request for records have been referred to SSA by other agencies; individuals who submit inquiries to SSA regarding federal agency compliance with the FOIA; attorneys representing individuals submitting records requests and appeals; individuals who are the subject of such requests and appeals; and SSA personnel assigned to handle such requests and appeals.

CATEGORIES OF RECORDS IN THE SYSTEM:

This system consists of records received, created, or compiled in response to FOIA and Privacy Act requests or administrative appeals. This may include original requests and administrative appeals; responses to such requests and administrative appeals; all related memoranda, correspondence, notes, and other related or supporting documentation; and copies of requested records relating to original requests and administrative appeals. This system also consists of records related to inquiries submitted to SSA regarding federal agency compliance with the FOIA, and all records related to resolution of such inquiries.

RECORD SOURCE CATEGORIES:

We obtain information in this system of records from individuals who submit Privacy Act requests or FOIA requests, primarily from the person to whom the record pertains; third parties, such as legal guardians, appointed representatives, and representative payees; and local, State, and Federal agencies.

ROUTINE USES OF RECORDS MAINTAINED IN THE SYSTEM, INCLUDING CATEGORIES OF USERS AND PURPOSES OF SUCH USES:

We will disclose records pursuant to the following routine uses; however, we will not disclose any information defined as “return or return information” under 26 U.S.C. 6103 of the Internal Revenue Code (IRC), unless authorized by a statute, the Internal Revenue Service (IRS), or IRS regulations.

1. To the Office of the President, in response to an inquiry received from that office made on behalf of, and at the request of, the subject of record or a third party acting on the subject's behalf.

2. To a congressional office, in response to an inquiry from that office made on behalf of, and at the request of, the subject of the record.

3. To the Department of the Treasury, IRS, for the purpose of auditing SSA's compliance with the safeguard provisions of the IRC of 1986, as amended.

4. To the Department of Justice (DOJ), a court or other tribunal, or another party before such court or tribunal, when:

(a) SSA, or any component thereof; or

(b) any SSA employee in the employee's official capacity; or

(c) any SSA employee in the employee's individual capacity where DOJ (or SSA where it is authorized to do so) has agreed to represent the employee; or

(d) the United States or any agency thereof where SSA determines the litigation is likely to affect SSA or any of its components, SSA is a party to the litigation or has an interest in such litigation, and SSA determines that the use of such records by DOJ, a court or other tribunal, or another party before the tribunal, is relevant and necessary to the litigation, provided, however, that in each case, we determine that such disclosure is compatible with the purpose for which the records were collected.

5. To the National Archives and Records Administration (NARA) under 44 U.S.C. 2904 and 2906.

6. To student volunteers, individuals working under a personal service contract, and other workers who technically do not have the status of Federal employees, when they are performing work for us, as authorized by law, and they need access to personally identifiable information (PII) in our records in order to perform their assigned agency functions.

7. To Federal, State, and local law enforcement agencies and private security contractors, as appropriate, when information is necessary:

(a) to enable them to protect the safety of SSA employees and customers, the security of the SSA workplace, and the operation of our facilities, or

(b) to assist investigations or prosecutions with respect to activities that affect such safety and security or activities that disrupt the operation of our facilities.

8. To contractors and other Federal agencies, as necessary, for the purpose of assisting SSA in the efficient administration of our programs. We will disclose information under this routine use only in situations in which we may enter into a contractual or similar agreement to obtain assistance in accomplishing an SSA function relating to this system of records.

9. To appropriate agencies, entities, and persons when:

(a) SSA suspects or has confirmed that there has been a breach of the system of records;

(b) SSA has determined that, as a result of the suspected or confirmed breach, there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

10. To NARA, Office of Government Information Services (OGIS), to the extent necessary to fulfill its responsibilities in 5 U.S.C. 552(h) to review administrative agency policies, procedures, and compliance with the FOIA, and to facilitate OGIS' offering of mediation services to resolve disputes between persons making FOIA requests and administrative agencies.

11. To another Federal agency or Federal entity, when SSA determines that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

12. To third parties when an individual involved with a request needs assistance to communicate because of a hearing impairment or a language barrier (e.g., to interpreters, telecommunications relay system operators).

POLICIES AND PRACTICES FOR STORAGE OF RECORDS:

We will maintain records in this system in electronic form.

POLICIES AND PRACTICES FOR RETRIEVAL OF RECORDS:

We will retrieve records in this system by the name and Social Security number (SSN) of the requester or appellant; case number assigned to the request or appeal; name of attorney representing the requester or appellant; the name of an individual who is the subject of such a request or appeal; or subject matter.

POLICIES AND PRACTICES FOR RETENTION AND DISPOSAL OF RECORDS:

In accordance with NARA rules codified at 36 CFR 1225.16, we maintain records in accordance with approved NARA General Records Schedule (GRS) 3.1, item 012, and GRS 4.2.

ADMINISTRATIVE, TECHNICAL, AND PHYSICAL SAFEGUARDS:

We retain electronic files containing personal identifiers in secure storage areas accessible only by authorized employees, including our employees and contractors, who have a need for the information when performing their official duties. Security measures include, but are not limited to, the use of codes and profiles, personal identification number and password, and personal identification verification cards. We restrict access to specific correspondence within the system based on assigned roles and authorized users. We use audit mechanisms to record sensitive transactions as an additional measure to protect information from unauthorized disclosure or modification.

We annually provide authorized individuals, including our employees and contractors, with appropriate security awareness training that includes reminders about the need to protect PII and the criminal penalties that apply to unauthorized access to, or disclosure of, PII (5 U.S.C. 552a(i)(1)). Furthermore, authorized individuals with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) a notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought, and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

81 FR 45352 (July 13, 2016), FOIA and Privacy Act Record Request and Appeal System.

83 FR 54969 (November 1, 2018), FOIA and Privacy Act Record Request and Appeal System.

[FR Doc. 2025-20201 Filed 11-17-25; 8:45 am]

BILLING CODE 4191-02-P